DEPARTMENT OF COMMERCE

International Trade Administration

[A-507-502]

Certain In-Shell Pistachios From Iran: Initiation of New Shipper Review

AGENCY: Import Administration, International Trade Administration, Department of Commerce.

ACTION: Notice of initiation of new shipper review on certain in-shell pistachios from Iran.

SUMMARY: On July 31, 2001, the Department of Commerce (the Department) received a request to conduct a new shipper review of the antidumping duty order on certain in-shell pistachios (in-shell pistachios) from Iran. In accordance with section 751(a)(2)(B) of the Tariff Act of 1930, as amended (the Act), and 19 CFR 351.214(d), we are initiating this new shipper review.

EFFECTIVE DATE: October 10, 2001.

FOR FURTHER INFORMATION CONTACT: Dena Aliadinov or Donna Kinsella, AD/CVD Enforcement, Import Administration, International Trade Administration, U.S. Department of Commerce, 14th Street and Constitution Avenue, NW., Washington, DC 20230; telephone: (202) 482-3362 or (202) 482-0194, respectively.

The Applicable Statute and Regulations

Unless otherwise indicated, all citations to the Act are references to the provisions effective January 1, 1995, the effective date of the amendments made to the Act by the Uruguay Round Agreements Act. In addition, unless otherwise indicated, all references to the Department's regulations are to 19 CFR part 351 (2001).

Background

On July 17, 1986, the Department issued an antidumping duty order on in-shell pistachios from Iran. See Antidumping Duty Order; Certain In-Shell Pistachios From Iran, 51 FR 25922 (July 17, 1986). This order covers raw in-shell pistachios and specifically excludes roasted in-shell pistachios. See Certain In-Shell Pistachios From Iran; Clarification of Scope in Antidumping Duty Investigation, 51 FR 23254 (June 26, 1986). In October 1987, the United States imposed a trade embargo on imports of all products to the United States from Iran. Effective April 28, 2000, the Department of the Treasury lifted the embargo on imports of certain Iranian-origin foodstuffs (including pistachios) and carpets.

On July 31, 2001, the Department received a timely request from Tehran Negah Nima Trading Company, Inc., trading as Nima Trading Company (Nima), in accordance with section 751(a)(2)(B) of the Act and 19 CFR 351.214(c), for a new shipper review of the antidumping duty order on in-shell pistachios from Iran. This order has a July anniversary month.

Period of Review

The period of review (POR) is July 1, 2000 through June 30, 2001.

Initiation of Review

In accordance with 19 CFR 351.214(b)(2), Nima certified that: (1) It did not export subject merchandise to the United States during the period of investigation (POI) (April 1, 1985 through September 30, 1985); and (2) since the initiation of the investigation, on October 23, 1985, it has never been affiliated with any exporter or producer who exported the subject merchandise to the United States during the POI, including those exporters or producers not individually examined during the investigation. Nima also submitted documentation establishing the following: (1) The date on which it first shipped subject merchandise for export to the United States; (2) the volume of that shipment; and (3) the date of the first sale to an unaffiliated customer in the United States.

As Nima meets the eligibility requirements for a new shipper review, we are initiating a new shipper review of the antidumping duty order on in-shell pistachios from Iran, in accordance with section 751(a)(2)(B)(ii) of the Act and 19 CFR 351.214(d)(1). In accordance with 19 CFR 351.214(i)(1), we intend to issue the preliminary results of this review no later than 180 days after the day on which this new shipper review is initiated.

Concurrent with publication of this notice, and in accordance with 19 CFR 351.214(e), we will instruct the U.S. Customs Service to allow, at the option of the importer, the posting of a bond or security in lieu of a cash deposit for each entry of the merchandise exported by Nima until the completion of this new shipper review.

The interested parties must submit applications for disclosure under administrative protective order in accordance with 19 CFR 351.305 and 351.306.

This initiation notice is published in accordance with section 751(a)(2)(B)(ii) of the Act and 19 CFR 351.214 and 351.221(c)(1)(i).

Dated: October 2, 2001.
Joseph A. Spetrini,
Deputy Assistant Secretary, AD/CVD Enforcement Group III.

[FR Doc. 01-25408 Filed 10-9-01; 8:45 am]

BILLING CODE 3510-DS-P